DEPARTMENT OF THE INTERIOR

National Park Service

[NPS-WASO-NAGPRA-NPS0035288; PPWOCRADN0-PCU00RP14.R50000]

Notice of Inventory Completion: Walsh Gallery, Seton Hall University, South Orange, NJ

AGENCY: National Park Service, Interior.

ACTION: Notice.

SUMMARY: In accordance with the Native American Graves Protection and Repatriation Act (NAGPRA), the Walsh Gallery at Seton Hall University (Walsh Gallery) has completed an inventory of human remains and has determined that there is a cultural affiliation between the human remains and Indian Tribes or Native Hawaiian organizations in this notice. The human remains were removed from unknown sites in the Mid-Atlantic United States.

DATES: Repatriation of the human remains in this notice may occur on or after March 10, 2023.

FOR FURTHER INFORMATION CONTACT: Laura Hapke, Collections Manager, Walsh Gallery, University Libraries, Seton Hall University, 400 South Orange Avenue, South Orange, NJ 07079, telephone (973) 275-2165, email laura.hapke@shu.edu.

SUPPLEMENTARY INFORMATION: This notice is published as part of the National Park Service's administrative responsibilities under NAGPRA. The determinations in this notice are the sole responsibility of the Walsh Gallery. The National Park Service is not responsible for the determinations in this notice. Additional information on the determinations in this notice, including the results of consultation, can be found in the inventory or related records held by the Walsh Gallery.

Description

Human remains representing, at minimum, six individuals were removed from unknown sites in the Mid-Atlantic United States. In all cases, no known individuals were identified and no associated funerary objects are present.

FIM013—Possibly in 1962, the human remains of one individual were excavated by Lewis Haggerty from a location in New York he identified as the “Van Sickle site.” Based on Haggarty's records, this site may have been in Orange County, NY. The age of the human remains is unknown. Haggarty's collection, including these human remains, was donated to the Seton Hall University Museum of Anthropology and Archaeology in 1981. In 2001, the museum closed following director Herbert Kraft's death, and in 2015, its collections were transferred to the Walsh Gallery.

FIM172—At an unknown date, the human remains of one individual were removed from an unknown location. These remains came into the collection of the Seton Hall University Museum of Anthropology and Archaeology through Professor of Anthropology Herbert Kraft. As Kraft's work focused on the Lenape Indians, these human remains are likely affiliated with the Lenape. In 2001, the museum closed following director Herbert Kraft's death, and in 2015, its collections were transferred to the Walsh Gallery.

FIM606—At an unknown date, the human remains of one individual were removed from an unknown location. These human remains came into the collection of the Seton Hall University Museum of Anthropology and Archaeology through Professor of Anthropology Herbert Kraft. As Kraft's work focused on the Lenape Indians, these human remains are likely affiliated with the Lenape. In 2001, the museum closed following director Herbert Kraft's death, and in 2015, its collections were transferred to the Walsh Gallery.

FIM607—At an unknown date, the human remains of one individual were removed from an unknown site in New Jersey. In 1962, David Werner and Lyman Vandermark donated these human remains to the Seton Hall Museum of Anthropology and Archaeology. The age of these human remains is unknown. The Seton Hall University Museum of Anthropology and Archaeology closed in 2001, and in 2015, its collections were transferred to the Walsh Gallery.

FIM0608—At an unknown date, the human remains of one individual were removed from an unknown location. These human remains came into the collection of the Seton Hall University Museum of Anthropology and Archaeology through Professor of Anthropology Herbert Kraft. As Kraft's work focused on the Lenape Indians, these human remains are likely affiliated with the Lenape. In 2001, the museum closed following director Herbert Kraft's death, and in 2015, its collections were transferred to the Walsh Gallery.

FIM0609—At an unknown date, the human remains of one individual were removed from an unknown location. These human remains came into the collection of the Seton Hall University Museum of Anthropology and Archaeology through Professor of Anthropology Herbert Kraft. As Kraft's work focused on the Lenape Indians, these human remains are likely affiliated with the Lenape. In 2001, the museum closed following director Herbert Kraft's death, and in 2015, its collections were transferred to the Walsh Gallery.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: historical and geographical (based on institutional knowledge about the Walsh Gallery's archeological collection).

Determinations

Pursuant to NAGPRA and its implementing regulations, and after consultation with the appropriate Indian Tribes and Native Hawaiian organizations, the Walsh Gallery has determined that:

• The human remains described in this notice represent the physical remains of six individuals of Native American ancestry.

• There is a relationship of shared group identity that can be reasonably traced between the human remains described in this notice and the Delaware Nation, Oklahoma; Delaware Tribe of Indians; and the Stockbridge Munsee Community, Wisconsin.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after March 10, 2023. If competing requests for repatriation are received, the Walsh Gallery must determine the most appropriate requestor prior to repatriation. Requests for joint repatriation of the human remains are considered a single request and not competing requests. The Walsh Gallery is responsible for sending a copy of this notice to the Indian Tribes identified in this notice.

Authority: Native American Graves Protection and Repatriation Act, 25 U.S.C. 3003, and the implementing regulations, 43 CFR 10.9, § 10.10, and § 10.14.

Dated: February 1, 2023.
Melanie O'Brien,
Manager, National NAGPRA Program.

[FR Doc. 2023-02631 Filed 2-7-23; 8:45 am]

BILLING CODE 4312-52-P